ELECTION ASSISTANCE COMMISSION

Sunshine Act Meetings

AGENCY: U.S. Election Assistance Commission.

ACTION: Notice; corrections.

SUMMARY: The U.S. Election Assistance Commission published a document in the Federal Register regarding the scheduled Accessibility Survey and Lessons Learned Roundtable Discussion. The Notice appeared in the Federal Register of February 2, 2021 in FR Doc. 2021-02197, on page 7863 in the second column. The DATES section should be corrected to read:

DATES: Wednesday, February 17, 2021, 11:30 a.m.-1:00 p.m. Eastern.

FOR FURTHER INFORMATION CONTACT: Kristen Muthig, Telephone: (202) 897-9285, Email: kmuthig@eac.gov.

Amanda Joiner,
Associate Counsel, U.S. Election Assistance Commission.

[FR Doc. 2021-02891 Filed 2-9-21; 11:15 am]

BILLING CODE P